DEPARTMENT OF COMMERCE

Patent and Trademark Office

[Docket No.: PTO-P-2024-0026]

2024 Guidance Update on Patent Subject Matter Eligibility, Including on Artificial Intelligence

AGENCY: United States Patent and Trademark Office, Department of Commerce.

ACTION: Examination guidance; extension of comment period.

SUMMARY: The United States Patent and Trademark Office (USPTO) is extending the comment period for the notice titled “2024 Guidance Update on Patent Subject Matter Eligibility, Including on Artificial Intelligence” that was published in the Federal Register on July 17, 2024. The notice's comment period is extended until October 16, 2024. This will be the only extension of the comment period.

DATES: The comment period for the notice published July 17, 2024 at 89 FR 58128 is extended until October 16, 2024.

ADDRESSES: Comments must be submitted through the Federal eRulemaking Portal at www.regulations.gov. To submit comments via the portal, enter docket number PTO-P-2024-0026 on the homepage and select “Search.” The site will provide a search results page listing all documents associated with this docket. Find a reference to this document and select the “Comment” icon, complete the required fields, and enter or attach your comments. Attachments to electronic comments will be accepted in Adobe® portable document format (PDF) or Microsoft Word® format. Because comments will be made available for public inspection, information that the submitter does not desire to make public, such as an address or phone number, should not be included in the comments.

Visit the Federal eRulemaking Portal for additional instructions on providing comments via the portal. If electronic submission of comments is not feasible due to a lack of access to a computer and/or the internet, please contact the USPTO using the contact information at the FOR FURTHER INFORMATION CONTACT section of this Notice for special instructions.

FOR FURTHER INFORMATION CONTACT: Carolyn Kosowski, Senior Legal Advisor, at 571-272-7688; Nalini Mummalaneni, Senior Legal Advisor, at 571-270-1647; or Matthew Sked, Senior Legal Advisor, at 571-272-7627, all with the Office of Patent Legal Administration, Office of the Deputy Commissioner for Patents.

SUPPLEMENTARY INFORMATION: On July 17, 2024, the USPTO published a notice on patent subject matter eligibility titled “2024 Guidance Update on Patent Subject Matter Eligibility, Including on Artificial Intelligence” to address innovation in critical and emerging technologies, especially artificial intelligence. See 89 FR 58128.

The USPTO is extending the written comment period until October 16, 2024, to ensure that all stakeholders have a sufficient opportunity to submit comments on the examination guidance presented in the July 17, 2024, notice. The USPTO is extending the written comment period only once.

Katherine K. Vidal,
Under Secretary of Commerce for Intellectual Property and Director of the United States Patent and Trademark Office.

[FR Doc. 2024-21085 Filed 9-16-24; 8:45 am]

BILLING CODE 3510-16-P